DEPARTMENT OF THE TREASURY

Office of Foreign Assets Control

Additional Designations Pursuant to Executive Order 13469 of July 25, 2008 “Blocking Property of Additional Persons Undermining Democratic Processes or Institutions in Zimbabwe” (the “Order”)

AGENCY: Office of Foreign Assets Control, Treasury.

ACTION: Notice.

SUMMARY: The Treasury Department's Office of Foreign Assets Control (“OFAC”) is publishing the names of twenty-one newly-designated entities and four individuals whose property and interests in property are blocked pursuant to the Order.

DATES: The designation by the Director of OFAC of the twenty-one entities and four individuals identified in this notice, pursuant to the Order is effective November 25, 2008.

FOR FURTHER INFORMATION CONTACT: Assistant Director, Compliance Outreach & Implementation, Office of Foreign Assets Control, Department of the Treasury, 1500 Pennsylvania Avenue, NW. (Treasury Annex), Washington, DC 20220, Tel.: 202-622-2490.

SUPPLEMENTARY INFORMATION:

Electronic and Facsimile Availability

Information about this designation and additional information concerning OFAC are available from OFAC's Web site (http://www.treas.gov/ofac) or via facsimile through a 24-hour fax-on-demand service, Tel.: 202/622-0077.

Background

On July 25, 2008, the President issued Executive Order 13469 with respect to Zimbabwe pursuant to, inter alia, the International Emergency Economic Powers Act (50 U.S.C. 1701-06). In the Order, the President took additional steps with respect to the national emergency declared in Executive Order 13288 of March 7, 2003, and relied upon for additional steps taken in Executive Order 13391 of November 22, 2005, in order to address the continued political repression and the undermining of democratic processes and institutions in Zimbabwe.

Section 1 of the Order blocks, with certain exceptions, all property, and interests in property, that are in, or hereafter come within, the United States or the possession or control of United States persons for persons determined by the Secretary of the Treasury, in consultation with the Secretary of State, to satisfy any of the criteria set forth in subparagraphs (a)(i) through (a)(viii) of Section 1. On November 25, 2008, the Director of OFAC designated, pursuant to one or more of the criteria set forth in subparagraphs (a)(i) through (a)(viii) of Section 1 of the Order, the following twenty-one entities and four individuals, whose names have been added to the list of Specially Designated Nationals and whose property and interests in property are blocked, pursuant to the Order:

Entities

1. ALPHA INTERNATIONAL (PRIVATE) LTD (a.k.a. ALPHA INTERNATIONAL (PRIVATE) LIMITED), Flat 1, Aileen Gardens, 51A Park Road, Camberley, Surrey GU15 2SP, United Kingdom [ZIMBABWE].

2. BRECO (ASIA PACIFIC) LTD, First Floor, Falcon Cliff, Palace Road, Douglas, IM2 4LB, Man, Isle of; Business Registration Document # M78647 (United Kingdom) [ZIMBABWE].

3. BRECO (EASTERN EUROPE) LTD (a.k.a. BRECO (EASTERN EUROPE) LIMITED), Falcon Cliff, Palace Road, Douglas, IM99 1ZW, Man, Isle of; Hurst Grove, Sandford Lane, Hurst, Reading, Berkshire RG10 0SQ, United Kingdom; Business Registration Document # FC0021189 (United Kingdom) [ZIMBABWE].

4. BRECO (SOUTH AFRICA) LTD, Cumbrae House, Market Street, Douglas IM1 2PQ, Man, Isle of; 9 Columbus Centre, Pelican Drive, Road Town, Tortola, Virgin Islands, British; Business Registration Document # Q1962 (United Kingdom) [ZIMBABWE].

5. BRECO (U.K.) LTD (a.k.a. BRECO (U.K.) LIMITED), New Boundary House, London Road, Sunningdale, Ascot, Berkshire SL5 0DJ, United Kingdom; Business Registration Document # 2969104 (United Kingdom) [ZIMBABWE].

6. BRECO GROUP, Hurst Grove, Sandford Lane, Hurst, Reading, Berkshire RG10 0SQ, United Kingdom; Thetford Farm, P.O. Box HP86, Mount Pleasant, Harare, Zimbabwe; 10 Montpelier Square, London SW7 1JU, United Kingdom; Middleton House, Titlarks Hill Road, Sunningdale, Ascot, Berkshire SL5 0JB, United Kingdom; New Boundary House, London Road, Sunningdale, Ascot, Berkshire SL5 0DJ, United Kingdom; Mapstone House, Mapstone Hill, Lustleigh, Newton Abbot, Devon TQ13 9SE, United Kingdom; Dennerlei 30, Schoten, Belgium [ZIMBABWE].

7. BRECO INTERNATIONAL, 25 Broad Street, St. Helier JE2 3RR, Jersey [ZIMBABWE].

8. BRECO NOMINEES LTD, New Boundary House, London Road, Sunningdale, Ascot, Berkshire SL5 0DJ, United Kingdom; Business Registration Document # 2799499 (United Kingdom) [ZIMBABWE].

9. BRECO SERVICES LTD (a.k.a. BRECO SERVICES LIMITED), New Boundary House, London Road, Sunningdale, Ascot, Berkshire SL5 0DJ, United Kingdom; Business Registration Document # 2824946 (United Kingdom) [ZIMBABWE].

10. CORYBANTES LTD, New Boundary House, London Road, Sunningdale, Ascot, Berkshire SL5 0DJ, United Kingdom; Middleton House, Titlarks Hill Road, Sunningdale, Ascot, Berkshire SL5 0JB, United Kingdom; Business Registration Document # FC21190 (United Kingdom) [ZIMBABWE].

11. ECHO DELTA HOLDINGS LTD, Thetford Farm, P.O. Box HP86, Mount Pleasant, Harare, Zimbabwe; Hurst Grove, Sandford Lane, Hurst, Reading, Berkshire RG10 0SQ, United Kingdom; New Boundary House, London Road, Sunningdale, Ascot, Berkshire SL5 0DJ, United Kingdom [ZIMBABWE].

12. KABABANKOLA MINING COMPANY (a.k.a. KMC), Nr. 1106 Avenue Lomami, Lubumbashi, Katanga, Congo, Democratic Republic of the [ZIMBABWE].

13. MASTERS INTERNATIONAL LTD., New Boundary House, London Road, Sunningdale, Ascot, Berkshire SL5 0DJ, United Kingdom; Business Registration Document # 2927685 (United Kingdom) [ZIMBABWE].

14. MASTERS INTERNATIONAL, INC., 1905 S. Florida Avenue, Lakeland, FL 33803; US FEIN 133798020 (United States) [ZIMBABWE].

15. PIEDMONT (UK) LIMITED, New Boundary House, London Road, Sunningdale, Ascot, Berkshire SL5 0DJ, United Kingdom [ZIMBABWE].

16. RACEVIEW ENTERPRISES, Zimbabwe [ZIMBABWE].

17. RIDGEPOINT OVERSEAS DEVELOPMENTS LIMITED (a.k.a. RIDGEPOINT OVERSEAS DEVELOPMENTS LTD), C/O: Mossack Fonseca & Co. BVI Ltd, Akara Building, 24 DeCastro St, Road Town, Tortola, Virgin Islands, British; P.O. Box 3136, Road Town, Tortola, Virgin Islands, British [ZIMBABWE].

18. SCOTTLEE HOLDINGS (PVT) LTD, 124 Josiah Chinamano Avenue, P.O. Box CY3371, Cauaseway, Harare, Zimbabwe; New Boundary House, London Road, Sunningdale, Berkshire SL5 0DJ, United Kingdom [ZIMBABWE].

19. SCOTTLEE RESORTS (a.k.a. SCOTTLEE RESORTS LIMITED), 124 Josiah Chinamano Avenue, P.O. Box CY 3371, Causeway, Harare, Zimbabwe; New Boundary House, London Road, Sunningdale, Berkshire SL5 0DJ, United Kingdom [ZIMBABWE].

20. TIMPANI LTD (a.k.a. TIMPANI EXPORT LTD; a.k.a. TIMPANI LIMITED), Mapstone House, Mapstone Hill, Lustleigh, Newton Abbot, Devon TQ13 9SE, United Kingdom; Falcon Cliff, Palace Road, Douglas, Isle of Man, Man, Isle of; Moorgate House, King Street, Newton Abbot, Devon TQ12 2LG, United Kingdom; Business Registration Document # 3547414 (United Kingdom) [ZIMBABWE].

21. TREMALT LTD (a.k.a. TREMALT LIMITED), Virgin Islands, British; Thetford Farm, P.O. Box HP86, Mount Pleasant, Harare, Zimbabwe; Hurst Grove, Sandford Lane, Hurst, Reading, Berkshire RG10 0SQ, United Kingdom; New Boundary House, London Road, Sunningdale, Ascot, Berkshire SL5 0DJ, United Kingdom [ZIMBABWE].

Individuals

1. BREDENKAMP, John (a.k.a. BREDENKAMP, John A.; a.k.a. BREDENKAMP, John Arnold), Thetford Farm, P.O. Box HP86, Mount Pleasant, Harare, Zimbabwe; 10 Montpelier Square, London SW7 1JU, United Kingdom; Hurst Grove, Sandford Lane, Hurst, Reading, Berkshire RG10 0SQ, United Kingdom; New Boundary House, London Road, Sunningdale, Ascot, Berkshire SL5 0DJ, United Kingdom; Middleton House, Titlarks Hill Road, Sunningdale, Ascot, Berkshire SL5 0JB, United Kingdom; Mapstone House, Mapstone Hill, Lustleigh, Newton Abbot, Devon TQ13 9SE, United Kingdom; Dennerlei 30, Schoten, Belgium; 62 Chester Square, London, United Kingdom; DOB 11 Aug 1940; citizen Netherlands; alt. citizen Suriname; alt. citizen Zimbabwe; Passport ND1285143 (Netherlands); alt. Passport Z01024064 (Netherlands); alt. Passport Z153612 (Netherlands); alt. Passport 367537C (Suriname) (individual) [ZIMBABWE].

2. KECHIK, Mahmood Awang, Ampang Puteri Specialist Hospital, 1, Jalan Mamanda 9, Selangor Darul Ehsan 68000, Malaysia; DOB 22 Aug 1954; citizen Malaysia; nationality Malaysia; Dr. (individual) [ZIMBABWE].

3. RAUTENBACH, Muller (a.k.a. RAUTENBACH, Billy; a.k.a. RAUTENBACH, Muller Conrad); DOB 11 Nov 1950; alt. DOB 23 Sep 1959; citizen Zimbabwe; Passport ZE26547 (Zimbabwe) (individual) [ZIMBABWE].

4. TAVEESIN, Nalinee (a.k.a. TAVEESIN, Nalinee Joy; a.k.a. TAWEESIN, NALINEE), 14th Floor of Modern Tower, Tower 87/110 Sukhumvit 63, Wattana, Bangkok 10110, Thailand; 33 Soi Soonvijai 4, Rama IX Road, Soi 26, Success Tower, Huai Khwang, Bang Kapi, Bangkok 10320, Thailand; 19-8 Soi Passana 3, Sukhumvit Road, Pakanong Nua, Wattana, Bangkok 10110, Thailand; 33 Soi Soonwichai 4 Bangkapi, Huaykhwang, Bangkok 10310, Thailand; DOB 12 Feb 1960; citizen Thailand; nationality Thailand; Passport Z066420 (Thailand); Managing Director (individual) [ZIMBABWE].

Dated: November 25, 2008.
Adam J. Szubin,
Director, Office of Foreign Assets Control.

[FR Doc. E8-28642 Filed 12-2-08; 8:45 am]

BILLING CODE 4811-42-P